POSTAL SERVICE

Temporary Emergency Committee of the Board of Governors: Sunshine Act Meeting

DATES AND TIMES: On January 6, 2015, members of the Temporary Emergency Committee of the Board of Governors of the United States Postal Service met in Washington, DC, via teleconference, and voted unanimously to move their previously announced January 7, 2015, meeting to January 6, 2015. In addition, the members voted to close the meeting to public observation and to revise the items to be considered. The Committee determined that no earlier public notice was possible.

MATTERS CONSIDERED: 1. Strategic Issues.

2. Pricing.

3. Financial Matters.

4. Governors' Executive Session.

GENERAL COUNSEL CERTIFICATION: The General Counsel of the United States Postal Service certified that the meeting might be closed under the Government in the Sunshine Act.

CONTACT PERSON FOR MORE INFORMATION: Requests for information about the meeting should be addressed to the Secretary of the Board, Julie S. Moore, at 202-268-4800.

Julie S. Moore,
Secretary, Board of Governors.

[FR Doc. 2015-00506 Filed 1-9-15; 4:15 pm]

BILLING CODE P